DEPARTMENT OF TRANSPORTATION

Federal Aviation Administration

Executive Committee of the Aviation Rulemaking Advisory Committee; Meeting

AGENCY: Federal Aviation Administration (FAA), DOT.

ACTION: Notice of public meeting.

SUMMARY: The FAA is issuing this notice to advise the public of a meeting of the Executive Committee of the Aviation Rulemaking Advisory Committee (ARAC).

DATES: The meeting is scheduled for November 17, 2004, 10 a.m.-noon.

ADDRESSES: The meeting will be held at the FAA, Orville Wright Building, 800 Independence Avenue, SW., Washington, DC 20591, 10th floor, MacCracken Room.

FOR FURTHER INFORMATION CONTACT: Ms. Gerri Robinson, FAA, 800 Independence Avenue, SW., Washington, DC 20591; telephone (202) 267-9678; fax (202) 267-5075; e-mail: Gerri.Robinson@faa.gov.

SUPPLEMENTARY INFORMATION: Under section 10(a)(2) of the Federal Advisory Committee Act (5 U.S.C. App. 2), we are giving notice of a meeting of the Executive Committee of the ARAC to be held on November 17, 2004, at the FAA, Orville Wright Building, 800 Independence Avenue, SW., Washington, DC 20591. The agenda includes:

FAA Rulemakings on the Unified Regulatory Agenda

Tracking the status of rulemaking documents at OST and OMB

Discussion on future of ARAC and ARCs

Discussion of how EASA and FAA should coordinate regulatory initiatives

ARAC Accomplishments

Participation at the Public Meeting

Attendance is open to the public, but will be limited to the space available. The public must make arrangements for teleconferencing by November 5th to participate in the meeting using the teleconference service. The public must also make arrangements by November 5th to present oral statements at the meeting. Written statements may be presented to the Committee at any time either by sending 25 copies to the Executive Director or by providing the copies at the meeting. To make arrangements for teleconferencing, making an oral presentation, or other reasonable accommodations for this meeting, please contact the person listed under the FOR FURTHER INFORMATION CONTACT section above.

Issued in Washington, DC on October 25, 2004.
Anthony F. Fazio,
Executive Director, Aviation Rulemaking Advisory Committee.

[FR Doc. 04-24257 Filed 10-28-04; 8:45 am]

BILLING CODE 4910-13-P